DEPARTMENT OF ENERGY

Federal Energy Regulatory Commission

Combined Notice of Filings #1

Take notice that the Commission received the following electric rate filings:

Docket Numbers: ER17-1730-001.

Applicants: Midcontinent Independent System Operator, Inc.

Description: Midcontinent Independent System Operator, Inc. submits tariff filing per 35.19a(b): Refund Report_Entergy Services to be effective N/A.

Filed Date: 4/15/19.

Accession Number: 20190415-5109.

Comments Due: 5 p.m. ET 5/6/19.

Docket Numbers: ER18-1704-001.

Applicants: Midcontinent Independent System Operator, Inc.

Description: Midcontinent Independent System Operator, Inc. submits tariff filing per 35.19a(b): Refund Report_Stuttgart Solar to be effective N/A.

Filed Date: 04/15/2019.

Accession Number: 20190415-5084.

Comment Date: 5 p.m. ET 5/6/19.

Docket Numbers: ER19-1067-001.

Applicants: Midcontinent Independent System Operator, Inc.

Description: Tariff Amendment: 2019-04-15_SA 3243 Deuel Harvest Wind-OTP GIA (J526) Amendment to be effective 2/6/2019.

Filed Date: 4/15/19.

Accession Number: 20190415-5145.

Comments Due: 5 p.m. ET 5/6/19.

Docket Numbers: ER19-1570-000.

Applicants: American Transmission Systems, Incorporated, PJM Interconnection, L.L.C.

Description: American Transmission Systems, Incorporated submits tariff filing per 35.13(a)(2)(iii): ATSI submits Revised Interconnection Agreement SA No. 3992 to be effective 6/1/2019.

Filed Date: 04/15/2019.

Accession Number: 20190415-5078.

Comment Date: 5:00 p.m. Eastern Time on Monday, May 06, 2019.

Docket Numbers: ER19-1571-000.

Applicants: PJM Interconnection, L.L.C.

Description: § 205(d) Rate Filing: Original WMPA, SA No. 5296; Queue No. AD2-030 to be effective 3/19/2019.

Filed Date: 4/15/19.

Accession Number: 20190415-5120.

Comments Due: 5 p.m. ET 5/6/19.

Docket Numbers: ER19-1572-000.

Applicants: PacifiCorp.

Description: § 205(d) Rate Filing: BPA General Transfer Agreement (West) Rev 10 to be effective 1/1/2018.

Filed Date: 4/15/19.

Accession Number: 20190415-5123.

Comments Due: 5 p.m. ET 5/6/19.

Docket Numbers: ER19-1573-000.

Applicants: PacifiCorp.

Description: § 205(d) Rate Filing: BPA General Transfer Agreement (West) Rev 11 to be effective 1/1/2019.

Filed Date: 4/15/19.

Accession Number: 20190415-5124.

Comments Due: 5 p.m. ET 5/6/19.

Docket Numbers: ER19-1574-000.

Applicants: The Potomac Edison Company, PJM Interconnection, L.L.C.

Description: § 205(d) Rate Filing: Potomac Edison submits a Construction Agreement, Service Agreement No. 5276 to be effective 5/1/2019.

Filed Date: 4/15/19.

Accession Number: 20190415-5125.

Comments Due: 5 p.m. ET 5/6/19.

Docket Numbers: ER19-1575-000.

Applicants: Alta Oak Realty, LLC.

Description: Baseline eTariff Filing: MBR Application to be effective 6/15/2019.

Filed Date: 4/15/19.

Accession Number: 20190415-5148.

Comments Due: 5 p.m. ET 5/6/19.

Docket Numbers: ER19-1576-000.

Applicants: Duke Energy Progress, LLC, Duke Energy Carolinas, LLC.

Description: § 205(d) Rate Filing: Revisions to Joint OATT Formula Transmission Rates (DEC and DEP) to be effective 5/15/2019.

Filed Date: 4/15/19.

Accession Number: 20190415-5158.

Comments Due: 5 p.m. ET 5/6/19.

Take notice that the Commission received the following electric securities filings:

Docket Numbers: ES19-22-000.

Applicants: Mid-Atlantic Interstate Transmission, LLC.

Description: Application under Section 204 of the Federal Power Act for Authorization to Issue Securities or Borrow Securities, et al. of Mid-Atlantic Interstate Transmission, LLC.

Filed Date: 4/12/19.

Accession Number: 20190412-5212.

Comments Due: 5 p.m. ET 5/3/19.

Take notice that the Commission received the following foreign utility company status filings:

Docket Numbers: FC19-4-000.

Applicants: Whitetower Holdings UK Ltd.

Description: Notice of Self-Certification of Foreign Utility Company Status of Whitetower Holdings UK Ltd.

Filed Date: 04/15/2019.

Accession Number: 20190415-5094.

Comment Date: 5 p.m. ET 5/6/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 15, 2019.
Nathaniel J. Davis, Sr.,
Deputy Secretary.

[FR Doc. 2019-07943 Filed 4-18-19; 8:45 am]

BILLING CODE 6717-01-P